DEPARTMENT OF HEALTH AND HUMAN SERVICES

Centers for Medicare & Medicaid Services

[CMS-1558-N]

Medicare Program; Request for Nominations and Meeting of the Practicing Physicians Advisory Council, August 18, 2008

AGENCY: Centers for Medicare & Medicaid Services (CMS), HHS.

ACTION: Notice.

SUMMARY: This notice invites all organizations representing physicians to submit nominations for consideration to fill two seats on the Practicing Physicians Advisory Council (the Council) that will be vacated by current Council members in 2009. This notice also announces a quarterly meeting of the Council. The Council will meet to discuss certain proposed changes in regulations and manual instructions related to physicians' services, as identified by the Secretary of Health and Human Services (the Secretary). This meeting is open to the public.

DATES: Meeting Date: Monday, August 18, 2008, from 8:30 a.m. to 5 p.m. e.d.t.

Deadline for Registration Without Oral Presentation: Thursday, August 14, 2008, 12 noon, e.d.t.

Deadline for Registration of Oral Presentations: Friday, August 1, 2008, 12 noon, e.d.t.

Deadline for Submission of Oral Remarks and Written Comments: Wednesday, August 6, 2008, 12 noon, e.d.t.

Deadline for Requesting Special Accommodations: Monday, August 11, 2008, 12 noon, e.d.t.

Deadline for Submitting Nominations: Friday, September 12, 2008, 5 p.m. e.d.t.

ADDRESSES: Meeting Location: The meeting will be held in the Multi-purpose Room, 1st floor, at the CMS Central Office, 7500 Security Boulevard, Baltimore, Maryland 21244.

Submission of Testimony: Testimonies should be mailed to Kelly Buchanan, Designated Federal Official (DFO), Centers for Medicare & Medicaid Services, 7500 Security Boulevard, Mail stop C4-13-07, Baltimore, MD 21244-1850, or contact the DFO via e-mail at PPAC_hhs@cms.hhs.gov.

Submission of Nominations: Mail or deliver nominations to the Centers for Medicare and Medicaid Services, Center for Medicare Management, Division of Provider Relations and Evaluations, Attention: Kelly Buchanan, Designated Federal Official, Practicing Physicians Advisory Council, 7500 Security Boulevard, Mail Stop C4-13-07, Baltimore, Maryland 21244-1850.

FOR FURTHER INFORMATION CONTACT: Kelly Buchanan, DFO, (410) 786-6132, or e-mail PPAC_hhs@cms.hhs.gov. News media representatives must contact the CMS Press Office, (202) 690-6145. Please refer to the CMS Advisory Committees' Information Line (1-877-449-5659 toll free), (410) 786-9379 (local) or the Internet at http://www.cms.hhs.gov/home/regsguidance.asp for additional information and updates on committee activities.

SUPPLEMENTARY INFORMATION:

I. Background

In accordance with section 10(a) of the Federal Advisory Committee Act, this notice announces the quarterly meeting of the Practicing Physicians Advisory Council (the Council). The Secretary is mandated by section 1868(a)(1) of the Social Security Act (the Act) to appoint a Practicing Physicians Advisory Council based on nominations submitted by medical organizations representing physicians. The Council meets quarterly to discuss certain proposed changes in regulations and manual instructions related to physician services, as identified by the Secretary. To the extent feasible and consistent with statutory deadlines, the Council's consultation must occur before Federal Register publication of the proposed changes. The Council submits an annual report on its recommendations to the Secretary and the Administrator of the Centers for Medicare & Medicaid Services (CMS) not later than December 31 of each year.

The Council consists of 15 physicians, including the Chair. Members of the Council include both participating and nonparticipating physicians, and physicians practicing in rural and underserved urban areas. At least 11 members of the Council must be physicians as described in section 1861(r)(1) of the Act; that is, State-licensed doctors of medicine or osteopathy. The remaining 4 members may include dentists, podiatrists, optometrists, and chiropractors. Members serve for overlapping 4-year terms.

Section 1868(a)(2) of the Act provides that the Council meet quarterly to discuss certain proposed changes in regulations and manual issuances that relate to physicians' services, identified by the Secretary. Section 1868(a)(3) of the Act provides for payment of expenses and per diem for Council members in the same manner as members of other advisory committees appointed by the Secretary. In addition to making these payments, the Department of Health and Human Services and CMS provide management and support services to the Council. The Secretary will appoint new members to the Council from among those candidates determined to have the expertise required to meet specific agency needs in a manner to ensure appropriate balance of the Council's membership.

The Council held its first meeting on May 11, 1992. The current members are: Vincent J. Bufalino, M.D., Chairperson; M. Leroy Sprang, M.D.; Karen S. Williams, M.D.; Joseph A. Giaimo, D.O.; Jonathan E. Siff, M.D., MBA; John E. Arradondo, M.D., MPH; Fredrica E. Smith, M.D.; Pamela A. Howard, M.D.; Tye J. Ouzounian, M.D.; Christopher J. Standaert, M.D.; Arthur D. Snow, Jr., M.D.; Gregory J. Przybylski, M.D.; Jeffrey A. Ross, DPM, M.D.; Roger L. Jordan, O.D.; and Janice A. Kirsch, M.D.

II. Nomination Requirements

Nominations must be submitted by medical organizations representing physicians. Nominees must have submitted at least 250 claims for physician services under the Medicare program in the previous year. Each nomination must state that the nominee has expressed a willingness to serve as a Council member and must be accompanied by a short resume or description of the nominee's experience. All candidates are advised to consider the time commitment of 1 full-day meeting, quarterly. If a candidate's current responsibilities preclude this level of commitment, we urge the individual to reconsider his or her nomination.

To permit an evaluation of possible sources of conflicts of interest, potential candidates will be asked to provide detailed information concerning financial holdings, consultant positions, research grants, and contracts. Consideration will be given to each nominee with regard to his or her leadership credentials, geographic and demographic factors, and projected PPAC needs. Final selections will incorporate these criteria to maintain a committee membership that is fairly balanced in terms of points of view represented and the committee's function. Selections will be made by February 2009 with new members sworn in during the May 2009 meeting.

Nominations to fill vacancies on the Council will be considered if received at the address listed in the ADDRESSES section of the notice, no later than the date listed in the DATES section of this notice. All nominating organizations will be notified in writing of those candidates selected for committee membership.

III. Meeting Format and Agenda

The meeting will commence with the Council's Executive Director providing a status report, and the CMS responses to the recommendations made by the Council at the May 19, 2008 meeting, as well as prior meeting recommendations. Additionally, an update will be provided on the Physician Regulatory Issues Team. In accordance with the Council charter, we are requesting assistance with the following agenda topics:

• Physician Fee Schedule Proposed Rule

• Recovery Audit Contractor (RAC) Update

• Demonstration Projects

• DME Update

• Outpatient Prospective Payment System (OPPS) and Ambulatory Surgical Center (ASC) Proposed Rules

• Medicare Contractor Provider Satisfaction Survey (MCPSS)

For additional information and clarification on these topics, contact the DFO as provided in the FOR FURTHER INFORMATION CONTACT section of this notice. Individual physicians or medical organizations that represent physicians wishing to present a 5-minute oral testimony on agenda issues must register with the DFO by the date listed in the DATES section of this notice. Testimony is limited to agenda topics only. The number of oral testimonies may be limited by the time available. A written copy of the presenter's oral remarks must be submitted to the DFO for distribution to Council members for review before the meeting by the date listed in the DATES section of this notice. Physicians and medical organizations not scheduled to speak may also submit written comments to the DFO for distribution by the date listed in the DATES section of this notice.

IV. Meeting Registration and Security Information

The meeting is open to the public, but attendance is limited to the space available. Persons wishing to attend this meeting must register by contacting the DFO at the address listed in the ADDRESSES section of this notice or by telephone at (410) 786-6132 by the date specified in the DATES section of this notice.

Since this meeting will be held in a Federal Government Building, the CMS Central Office, Federal security measures are applicable. In planning your arrival time, we recommend allowing additional time to clear security. To gain access to the building, participants will be required to show a government-issued photo identification (for example, driver's license, or passport), and must be listed on an approved security list before persons are permitted entrance. Persons not registered in advance will not be permitted into the CMS Central Office and will not be permitted to attend the Council meeting.

All persons entering the building must pass through a metal detector. In addition, all items brought to the CMS Central Office, whether personal or for the purpose of presentation, are subject to inspection. We cannot assume responsibility for coordinating the receipt, transfer, transport, storage, set-up, safety, or timely arrival of any personal belongings or items used for the purpose of presentation.

Individuals requiring sign language interpretation or other special accommodation must contact the DFO via the contact information specified in the FOR FUTHER INFORMATION CONTACT section of this notice by the date listed in the DATES section of this notice.

Authority: Section 1868 of the Social Security Act (42 U.S.C. 1395ee) and section 10(a) of Pub. L. 92-463 (5 U.S.C. App. 2, section 10(a)).

Dated: July 8, 2008.
Kerry Weems,
Acting Administrator, Centers for Medicare & Medicaid Services.

[FR Doc. E8-17057 Filed 7-24-08; 8:45 am]

BILLING CODE 4120-01-P